DEPARTMENT OF ENERGY

Office of Energy Efficiency and Renewable Energy

10 CFR Part 431

[Docket No. EE-TP-98-550]

RIN 1904-AA85

Energy Conservation Program: Test Procedures for Distribution Transformers; Correction

AGENCY: Office of Energy Efficiency and Renewable Energy, Department of Energy.

ACTION: Final rule; technical corrections.

SUMMARY: The Department of Energy (DOE or the Department) published a final rule on April 27, 2006, amending Part 431 to prescribe test procedures and other provisions for distribution transformers, pursuant to sections 323(b)(10) and 346(a) of the Energy Policy and Conservation Act, as amended. (42 U.S.C. 6293(b)(10) and 6317(a)) This document corrects three typographical errors in the final rule.

DATES: This correction is effective October 16, 2006.

FOR FURTHER INFORMATION CONTACT: Antonio Bouza, U.S. Department of Energy, Energy Efficiency and Renewable Energy, Building Technologies Program, EE-2J, 1000 Independence Avenue, SW., Washington, DC 20585-0121, (202) 586-4563, e-mail: antonio.bouza@ee.doe.gov.

Francine Pinto, Esq., U.S. Department of Energy, Office of General Counsel, GC-72, 1000 Independence Avenue, SW., Washington, DC 20585-0121, (202) 586-9507, e-mail: Francine.Pinto@hq.doe.gov.

SUPPLEMENTARY INFORMATION: The final rule that is the subject of this correction document established (1) Test procedures for measuring the energy efficiency of distribution transformers, (2) definitions to delineate the products covered by the test procedures, (3) provisions manufacturers must use to implement the test procedures, (4) calculation methods for determining the efficiency of distribution transformers, and (5) enforcement provisions for this equipment. 71 FR 24971 (April 27, 2006).

Need for Corrections

As published in the final rule, the definition for the term “excitation current” which can also be referred to as “no-load current” contains a typographical error that may prove to be misleading, and needs to be corrected. In the final rule, the conjunction “or” appearing between the terms “excitation current” and “no-load current” was italicized, such that the two terms excitation current and no-load current appeared as one continuous phrase (i.e., excitation current or no-load current). The Department is concerned that the italicization of the word “or” may lead to confusion about the defined term. This technical correction document removes the italicization of the word “or.” The remainder of the definition (i.e., “means the current that flows in any winding used to excite the transformer when all other windings are open-circuited”) was correct in the final rule and is not amended by this technical correction.

In a comment submitted after the publication of the final rule, NEMA brought to the Department's attention two typographical errors that have an impact on the calculation of distribution transformer efficiency and must be corrected. (NEMA, No. 61 at p. 1) In the final rule notice, Equation 5-1 was given as:

And an explanation of one of the terms in equation 5-1, Pos, was given as follows:

Pos is the specified energy efficiency load level, where, Pos = PorL², and

NEMA determined that there are typographical errors in both equation 5-1 and the explanation of the term Pos. The Department carefully reviewed this comment, and agrees with NEMA's determination. In equation 5-1, the quantity contained in the square brackets should be squared (i.e., raised to the second power). In the explanation of the term Pos, the variable represented by the letter “L” should not be squared. These errors were present in the Department's previous supplemental notice of proposed rulemaking for this test procedure (69 FR 45532), but were not identified at that time.

Today's technical correction document amends equation 5-1, raising the contents of the square brackets to the second power, so the corrected equation reads as follows:

Similarly, this technical correction document amends the explanation of the term Pos to remove the square from the variable L, so the corrected equation reads as follows:

Pos is the specified energy efficiency load level, where Pos = PorL, and

List of Subjects in 10 CFR Part 431

Administrative practice and procedure, Distribution transformers, Energy conservation.

Accordingly, 10 CFR part 431 is amended by making the following technical corrections:

PART 431—ENERGY EFFICIENCY PROGRAM FOR CERTAIN COMMERCIAL AND INDUSTRIAL EQUIPMENT

1. The authority citation for part 431 continues to read as follows:

Authority: 42 U.S.C. 6291-6317.

2. In § 431.192, revise the definition of “excitation current” to read as follows:

§ 431.192 Definitions.

* * * * *

Excitation current or no-load current means the current that flows in any winding used to excite the transformer when all other windings are open-circuited.

* * * * *

3. In section 5.1 of Appendix A to Subpart K of Part 431, revise equation 5-1 and the explanation for the term Pos to read as follows:

Appendix A to Subpart K of Part 431—Uniform Test Method for Measuring the Energy Consumption of Distribution Transformers

* * * * *

5.1 Output Loading Level Adjustment.

* * * * *

Where:

* * * * *

Pos is the specified energy efficiency load level, where Pos = PorL, and

* * * * *

Issued in Washington, DC, on October 2, 2006.
Alexander A. Karsner,
Assistant Secretary, Energy Efficiency and Renewable Energy.

[FR Doc. E6-16998 Filed 10-13-06; 8:45 am]

BILLING CODE 6450-01-P